ADMINISTRATIVE CONFERENCE OF THE UNITED STATES

Committee on Regulation

ACTION: Notice of public meeting.

SUMMARY: Notice is hereby given of a public meeting of the Committee on Regulation of the Assembly of the Administrative Conference of the United States (ACUS). The meeting will involve discussion of research conducted by Professor Wendy E. Wagner for ACUS's “Science in the Administrative Process” project. The committee will meet via a virtual, online Web forum extending over a period of approximately six weeks. Committee members will discuss Professor Wagner's research by posting comments to the forum and reading comments submitted to the forum by other persons. The public may participate by submitting comments electronically or by mail or fax.

DATES: The Web forum will be opened to both members of the Committee on Regulation and the public for submission and viewing of comments on November 2, 2011 at 9 a.m. The forum will remain open for submission of comments until December 15, 2011 at 5 p.m., unless it is announced on the forum Web site that the discussion has been completed earlier. After the period for receipt of comments has ended, the forum will remain available for viewing but will not accept additional comments.

ADDRESSES: The meeting will have no physical location. It will take place via an online discussion forum on the Administrative Conference Web site, which can be accessed at: http://www.acus.gov/forum/. The public may submit comments either electronically through the forum Web site or by mail or fax addressed to the Designated Federal Officer.

FOR FURTHER INFORMATION CONTACT: Reeve T. Bull, Designated Federal Officer for the Committee on Regulation, ACUS, 1120 20th Street, NW., Suite 706 South, Washington, DC 20036; Telephone 202-480-2080; Fax 202-386-7190.

SUPPLEMENTARY INFORMATION: Professor Wendy E. Wagner of the University of Texas Law School is conducting research for the ACUS project on “Science in the Administrative Process.” Previously, she presented a proposed outline to the Committee on Regulation and received feedback. Professor Wagner subsequently prepared a revised outline, and the purpose of this meeting is to enable committee discussion and feedback regarding the revised outline. The revised outline discusses Professor Wagner's research relating to (1) the transparency of agencies' reporting of their scientific research and (2) whether agencies allow scientists conducting research on their behalf to express dissenting viewpoints. The revised outline and any other documents associated with the committee meeting will be made available on the project Web page prior to the commencement of the committee meeting.

The committee will meet via a virtual, online Web forum extending over a period of approximately six weeks. See 41 CFR 102-3.140(e) (permitting meetings conducted “in whole or part by * * * the Internet”). Committee members will discuss Professor Wagner's research by posting comments to the forum and reading comments submitted to the forum by other members of the committee and the public. All comments will be reviewed prior to posting by the Designated Federal Officer (DFO) acting as forum moderator. This virtual meeting will enable the committee to discuss the committee's business using modern communications tools in an open and transparent fashion.

The public will be able to view all comments on the forum. The public may also participate by submitting comments either electronically or by mail or fax via the contact information provided above. The DFO will review all comments received, both online and through other means of submission. The DFO will post all public comments received, excepting those that contain trade secret or other confidential information, or that are obscene, libelous, threatening, unrelated to the topic being discussed, or otherwise evidently inappropriate for posting. When submitting comments, please bear in mind that, because the Web forum will be moderated, it may take some time for comments to appear on the forum, particularly for comments submitted outside business hours.

The Web forum will be opened to both members of the Committee on Regulation and the public for submission and viewing of comments beginning on November 2, 2011 at 9 a.m. The forum will remain open for submission of comments until December 15, 2011 at 5 p.m., unless it is announced that the discussion has been completed earlier. Any earlier closing date will be announced on both the forum Web page and on the “Science in the Administrative Process” project page at least one week in advance. After the period for receipt of comments has ended, the forum will remain available for viewing but will not accept additional comments.

Complete details regarding the committee's online meeting, related research documents, and how to participate in the discussion (including information about accessing and navigating the Web forum and submitting comments for the committee's consideration) can be found on the “Science in the Administrative Process” project Web page on the ACUS Web site. Go to http://www.acus.gov and click on Research -> Conference Projects -> Science in the Administrative Process, or go directly to the following address: http://www.acus.gov/research/the-conference-current-projects/science-in-the-administrative-process/.

Dated: October 12, 2011.
Jonathan R. Siegel,
Director of Research & Policy.

[FR Doc. 2011-26848 Filed 10-17-11; 8:45 am]

BILLING CODE 6110-01-P